DEPARTMENT OF VETERANS AFFAIRS

[OMB Control No. 2900-New (NVVLS)]

Proposed Information Collection Activity: Proposed Collection; Comment Request

AGENCY: Veterans Health Administration, Department of Veterans Affairs

ACTION: Notice

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to follow-up on the National Vietnam Veterans Readjustment Study conducted in 1986 through 1987.

DATES: Written comments and recommendations on the proposed collection of information should be received on or before February 13, 2004.

ADDRESSES: Submit written comments on the collection of information to Ann W. Bickoff, Veterans Health Administration (19E1), Department of Veterans Affairs, 810 Vermont Avenue, NW., Washington, DC 20420 or e-mail ann.bickoff@mail.va.gov. Please refer to “OMB Control No. 2900-New (NVVLS) in any correspondence.

FOR FURTHER INFORMATION CONTACT: Ann W. Bickoff, (202) 273-8310 or FAX (202) 273-9386. These are not toll-free numbers.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: a. National Vietnam Veterans Longitudinal Study, (all components), VA Form 10-21064a.

b. National Vietnam Veterans Longitudinal Study, (all components with the exception of psychological testing), VA Form 10-21064b.

c. National Vietnam Veterans Longitudinal Study, Non-Response Telephone Interview, VA Form 10-21064c.

OMB Control Number: 2900-New (NVVLS).

Type of Review: New collection.

Abstract: The National Vietnam Veterans Longitudinal Study (NVVLS) is a follow-up to the National Vietnam Veterans Readjustment Study (NVVRS) conducted in 1986 through 1987 to sample veterans who served in the U.S. Army, Navy, Air Force, or Marines between August 5, 1964, and May 7, 1975. The NVVRS found that 15.2 percent of the men and 8.5 percent of the women who had served in Vietnam were current cases of posttraumatic stress disorder (PTSD). The rates of PTSD for those veterans exposed to high levels of war-zone stress were dramatically higher than the rates for those with low/moderate levels of war-zone stress exposure. Because of the high rates of PTSD, the strong evidence for the persistence of this syndrome, and the strength of its association with war-zone stress exposure, it is imperative that the VA has information about the current functioning of the participants in the original study. To address the important need for followup data and for an understanding of the current functioning of Vietnam veterans, the VA has contracted with Research Triangle Institute to conduct the NVVLS, follow-up study of the original cohort from the NVVRS. This follow-up of the NVVRS sample will be unique in the field and will enhance and supplement the original findings. The specific aims of this study are to assess:

a. Current prevalence of PTSD, with particular attention to changes in caseness from initial assessment and to variables that might be associated with such changes;

b. Current prevalence of cardiovascular disorders and their precursors and risk factors, with particular attention to their relationship to war-zone stress exposure and PTSD;

c. Current prevalence of other psychiatric disorders and other postwar readjustment problems, with particular attention to their relationship to chronic disease outcomes; and

d. Healthcare utilization patterns, with particular attention to sociodemographic and other variable that moderate service use.

Affected Public: Individuals or households.

Estimated Annual Burden: 4,426 hours.

a. National Vietnam Veterans Longitudinal Study (all components), VA Form 10-21064a—3,261.

b. National Vietnam Veterans Longitudinal Study, (all components with the exception of psychological testing) VA Form 10-21064b—1,154.

c. National Vietnam Veterans Longitudinal Study, Non-Response Telephone Interview, VA Form 10-21064c—11.

Estimated Average Burden Per Respondent: a. National Vietnam Veterans Longitudinal Study (all components), VA Form 10-21064a—11.50 hours.

b. National Vietnam Veterans Longitudinal Study, (all components with the exception of psychological testing) VA Form 10-21064b—6.75 hours.

c. National Vietnam Veterans Longitudinal Study, Non-Response Telephone Interview, VA Form 10-21064c—20 minutes.

Frequency of Response: One time.

Estimated Number of Respondents: 1,605.

a. National Vietnam Veterans Longitudinal Study (all components), VA Form 10-21064a—650.

b. National Vietnam Veterans Longitudinal Study, (all components with the exception of psychological testing) VA Form 10-21064b—855.

c. National Vietnam Veterans Longitudinal Study, Non-Response Telephone Interview, VA Form 10-21064c—100.

Dated: December 8, 2003.
By direction of the Secretary.
Jacqueline Parks,
IT Specialist, Records Management Service.

[FR Doc. 03-30873 Filed 12-12-03; 8:45 am]

BILLING CODE 8320-01-U